DEPARTMENT OF COMMERCE

International Trade Administration

[C-122-839]

Certain Softwood Lumber Products from Canada: Extension of Time Limit for Preliminary Results of Countervailing Duty Administrative Review

AGENCY: Import Administration, International Trade Administration, Department of Commerce.

EFFECTIVE DATE: January 25, 2006.

FOR FURTHER INFORMATION CONTACT: Stephanie Moore or Eric B. Greynolds at (202) 482-3692 or (202) 482-6071, respectively, AD/CVD Operations, Office 3, Import Administration, International Trade Administration, U.S. Department of Commerce, 14th Street and Constitution Avenue, NW., Washington, DC 20230.

SUPPLEMENTARY INFORMATION:

Background

On June 30, 2005, the Department initiated an administrative review of the countervailing duty order on certain softwood lumber products from Canada. See Initiation of Antidumping and Countervailing Duty Administrative Reviews, 70 FR 37749. The preliminary results are currently due no later than January 31, 2006.

Extension of Time Limit for Preliminary Results of Review

Section 751(a)(3)(A) of the Tariff Act of 1930, as amended (the Act), requires the Department to issue the preliminary results of a review within 245 days after the last day of the anniversary month of an order/finding for which a review is requested and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

The subsidy programs covered by this review are extraordinarily complicated. In addition, because this administrative review is being conducted on an aggregate level, the Department must analyze large amounts of data from each of the Canadian Provinces as well as data from the Canadian Federal Government. Therefore, the Department is fully extending the time limit for completion of the preliminary results to May 31, 2006. The final results continue to be due 120 days after publication of the preliminary results.

This notice is issued and published in accordance with sections 751(a)(3)(A) and 777(i)(1) of the Act.

Dated: January 17, 2006.
Stephen J. Claeys,
Deputy Assistant Secretary for Import Administration.

[FR Doc. E6-929 Filed 1-24-06; 8:45 am]

BILLING CODE 3510-DS-S